NUCLEAR REGULATORY COMMISSION

[Docket No. 50-146, License No. DPR-4]

Saxton Nuclear Experimental Corporation and GPU Nuclear, Inc.; Notice of Termination of Saxton Nuclear Experimental Corporation Facility Amended Facility License No. DPR-4

AGENCY: Nuclear Regulatory Commission.

ACTION: Notice of Termination of the Saxton Nuclear Experimental Corporation (SNEC) and GPU Nuclear, Inc., SNEC Facility Amended Facility License No. DPR-4.

SUMMARY: The Nuclear Regulatory Commission (NRC) is noticing the termination of Amended Facility License No. DPR-4 (NRC Docket No. 50-146) for the SNEC facility near Saxton, Pennsylvania.

Background: The SNEC facility is in Bedford County, Pennsylvania. The SNEC facility operated from 1962 to 1972. It was mainly used for research in various aspects of power reactor technology and to train personnel. The reactor was licensed at 23.5 megawatts of thermal energy. Electric power was produced by sending steam produced by operation of the reactor to a nearby coal-fired power station (because the SNEC facility did not have its own turbine or generator). The nuclear steam supply system was a one-loop pressurized water reactor. After shutdown, the reactor fuel was removed from the facility and shipped to what is now the Department of Energy Savannah River Site in South Carolina. Some minor decommissioning activities were done from 1972 to 1974. The facility was then placed in a monitored storage condition. Support structures and buildings were decontaminated and removed between 1987 and 1992. Full-scale decommissioning activities started in May 1998.

In February 2000 the licensees submitted their license termination plan (LTP) for the SNEC facility. Under the provisions of 10 CFR 50.82(a)(10), the NRC approved the LTP by a license amendment dated March 28, 2003. In accordance with the approved LTP, the licensees conducted final status surveys (FSSs) to demonstrate that the facility and site met the criteria in 10 CFR 20.1402 for unrestricted release. The licensees presented the FSS results to the NRC in FSS reports (FSSRs).

The licensees submitted an application for termination of SNEC Amended Facility License No. DPR-4 on September 15, 2005. The application states that GPU Nuclear, Inc., has completed the remaining radiological decommissioning activities and the final radiation surveys of the SNEC Facility and the associated PENELEC site in accordance with an NRC-approved LTP and the final radiation surveys demonstrate that the facility and site area meet the criteria in 10 CFR part 20, subpart E, for the decommissioning and release of the site for unrestricted use.

The NRC did a number of performance-based in-process inspections of the licensee's FSS program during the decommissioning process. The purpose of the inspections was to verify that the FSSs were being done in accordance with the licensees' commitments in the LTP and to evaluate the quality of the FSSs by reviewing the FSS procedures, methodology, equipment, surveyor training and qualifications, document quality control, and survey data. The NRC also did independent confirmatory surveys to verify the licensees' FSS results. The confirmatory surveys consisted of surface scans for beta and gamma radiation, direct measurements for total beta activity, and smear sampling for determining removable-radioactivity levels.

The NRC staff reviewed the FSSRs and concludes that (i) dismantlement and decontamination activities were performed in accordance with the approved LTP; and (ii) the FSSRs demonstrate that the facility and site have met the criteria for decommissioning in 10 CFR part 20, subpart E. NRC is therefore terminating SNEC Facility Amended Facility License No. DPR-4.

FOR FURTHER INFORMATION CONTACT: See the application for license termination dated September 15, 2005 (ML052640047) and NRC Inspection Report Nos. 50-146/2003-201, dated November 12, 2003 (ML033090608), 50-146/2003-202, dated December 17, 2003 (ML033420687), 50-146/2004-201, dated February 10, 2005 (ML050380407), and 50-146/2005-201, dated October 31, 2005 (ML052730465). They are available for public inspection at the Commission's Public Document Room (PDR) at One White Flint North, Public File Area O1F21, 11555 Rockville Pike (first floor), Rockville, Maryland. Publicly available records will be accessible electronically from the Agencywide Documents Access and Management System's (ADAMS's) Public Electronic Reading Room on the Internet at the NRC Web site, http://www.nrc.gov/reading-rm/adams.html (use the ADAMS ML numbers given above). Persons who do not have access to ADAMS or who have trouble accessing the documents in ADAMS should contact the NRC PDR reference staff by telephone at 1-800-397-4209 or 301-415-4737 or by e-mail to pdr@nrc.gov.

Dated at Rockville, Maryland this 7th day of November 2005.
For The Nuclear Regulatory Commission.
Brian E. Thomas,
Branch Chief, Research and Test Reactors Branch, Division of Policy and Rulemaking, Office of Nuclear Reactor Regulation.

[FR Doc. E5-6414 Filed 11-21-05; 8:45 am]

BILLING CODE 7590-01-P